INTERNATIONAL TRADE COMMISSION

[Investigation No. 337-TA-955]

Certain Protective Cases for Electronic Devices and Components Thereof Notice of a Commission Determination Not To Review an Initial Determination Terminating the Investigation in Its Entirety Based Upon Withdrawal of the Complaint

AGENCY: U.S. International Trade Commission.

ACTION: Notice.

SUMMARY: Notice is hereby given that the U.S. International Trade Commission has determined not to review the presiding administrative law judge's (“ALJ”) initial determination (“ID”) (Order No. 13) granting an unopposed motion to withdraw the complaint and terminate the investigation as to remaining respondent Tech21 UK Limited of Twickenham, United Kingdom (“Tech21”).

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 30, 2015, based on a Complaint filed by Otter Products, LLC of Fort Collins, Colorado (“OtterBox”). 80 FR 24276 (Apr. 30, 2015). The Complaint, as amended, alleges violations of section 337 of the Tariff Act of 1930, as amended, 19 U.S.C. 1337, in the importation into the United States, the sale for importation, and the sale within the United States after importation of certain protective cases for electronic devices and components thereof by reason of infringement of certain claims of U.S. Patent Nos. 8,792,232 and 8,976,512. The notice of investigation named Speculative Product Design, LLC of San Mateo, California (“Speck”) and Tech21 as respondents. The Office of Unfair Import Investigations is not a party to this investigation.

On July 22, 2015, the ALJ issued an ID granting a motion to terminate the investigation as to Speck based upon settlement. See Order No. 9. The Commission determined not to review the ID. See Notice of a Commission Determination Not to Review an Initial Determination Terminating the Investigation as to Speculative Product Design, LLC Based Upon Settlement (Aug. 21, 2015).

On September 8, 2015, OtterBox and Tech21 jointly moved to terminate the investigation in its entirety based upon withdrawal of the complaint. No responses to the motion were received.

On September 9, 2015, the ALJ issued the subject ID, granting the unopposed motion. The ALJ found that the motion complied with the requirements of Commission Rule 210.21(a)(1) (19 CFR 210.21(a)(1)) and further found that no extraordinary circumstances prohibited granting the motion. None of the parties petitioned for review of the ID.

The Commission has determined not to review the ID.

The authority for the Commission's determination is contained in section 337 of the Tariff Act of 1930, as amended (19 U.S.C. 1337), and in Part 210 of the Commission's Rules of Practice and Procedure (19 CFR part 210).

By order of the Commission.
Issued: September 28, 2015.
William R. Bishop,
Supervisory Hearings and Information Officer.

[FR Doc. 2015-24935 Filed 9-30-15; 8:45 am]

BILLING CODE 7020-02-P